DEPARTMENT OF LABOR

Employment and Training Administration

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed renewal of Job Corps Placement and Assistance Record, ETA form 678. A copy of the proposed information collection request (ICR) can be obtained by contacting the office listed below in the addresses section of this notice.

DATES: Written comments must be submitted to the office listed in the addresses section below on or before June 5, 2000.

ADDRESSES: June P. Veach, Office of Job Corps, 200 Constitution Avenue NW, Room N-4507, Washington, DC 20210. Telephone: (202) 219-5556, ext. 129 (This is not a toll-free number); Fax number: (202) 219-5183 (This is not a toll-free number); E-mail Internet address: Jvewach@doleta.gov.

SUPPLEMENTARY INFORMATION:

I. Background

The Job Corps program is designed to serve low-income young women and men, 16 through 24, who are in need of additional vocational, educational and social skills training, and other support services in order to gain meaningful employment, return to school or enter the Armed Forces. Authorized by the Workforce Investment Act (WIA) of 1998, Job Corps is operated by the Department of Labor through a nationwide network of 118 Job Corps centers. The program is primarily residential, operating 24 hours per day, 7 days per week, with non-resident students limited by legislation to 20 percent of national enrollment. These centers presently accommodate more than 42,000 students. While students may stay in Job Corps up to two years to complete their programs, the average length of stay is eight months. Thus, more than 68,000 young people receive training in Job Corps in a year; of the number of students who separate from the program each year, 82 percent are placed in jobs, further education programs, or the Armed Forces. Seventy percent of all job placements are in areas for which students trained. The purpose of this collection is to gather information about each student's placement outcome after separation from the program. This form is critical to the placement process and measurement of placement outcomes and ultimately of program performance.

II. Review Focus

The Department of Labor is particularly interested in comments which:

• Evaluate whether the proposed collection of information is necessary for the proper performance of the functions of the agency, including whether the information will have practical utility;

• Evaluate the accuracy of the agency’s estimate of the burden of the proposed collection of information, including the validity of the methodology and assumptions used;

• Enhance the quality, utility, and clarify of the information to be collected; and

• Minimize the burden of the collection of information on those who are to respond, including through the use of appropriate automated, electronic, mechanical, or other technological collection techniques or other forms of information technology, e.g., permitting electronic submissions of responses.

III. Current Actions

The form ETA 678 has expired. This form is used to evaluate program effectiveness. The introduction of the Workforce Investment Act of 1998 created a delay in the renewal process because of changes in Job Corps placement requirements mandated by the Act. Job Corps has continued to collect information because job, school, or military placements are a major indicator of program performance. The collection provides placement agencies with basic training information regarding separated students and provides the Department of Labor with information on the placement status of students subsequent to separation from the Program. No harm has been done while the form was used to collect data. No reports have been submitted and/or developed for Congress during the period. This action will effect a reduction in paperwork burden hours.

The revisions involve the addition of collecting data on program graduates as required by the Act, and a change from the use of DOT codes to O*Net codes to determine the job category and training match. In addition, with the WIA-mandated follow-up of graduates’ placement status and provision of placement services for a year following separation from the program, there is no need for the item asking whether the placement is perceived as permanent or temporary.

Review: Reinstatement (with change).

Agency: Employment and Training Administration.

Title: Job Corps Placement and Assistance Record.

OMB Number: 205-0035.

Agency Number: ETA 678.

Recordkeeping: The student is not required to retain records; contractor offices and Job Corps centers are required to maintain records for 3 years.

Affected Public: Individuals who separate from Job Corps; Business or other for-profit/Not-for-profit institutions/Federal Government/State, Local or Tribal Government.

Total Respondents: 68,000.

Frequency: one per person.

Total Responses: 68,000.

Average Time per Response: 20 minutes.

Estimated Total Burden Hours: 22,666.

Total Burden Cost (capital/startup): Job Corps initiated electronic collection of placement data in 1994, with installation of 85 master placer PC units at the placement contractor headquarters. The cost was $240,000, including $170,000 for hardware, $50,000 for software and $20,000 for communications costs.

Total Burden Cost (operating/maintaining): The information on the form 678 related to the training completed on a Job Corps center is entered automatically on the form from the database. The remaining information related to the youth's placement is entered electronically by the contracted placement specialist who provides placement services. The estimated annual cost of completing the form for 68,000 separated Job Corps is estimated at $248,183. This includes $29,183 for youth and $255,000 to employers who hire them is for completing the ETA 678 for 68,000 youth is to verify the placements.

Comments submitted in response to this comment request will be summarized and/or included in the request for Office of Management and Budget approval of the information collection request; they will also become a matter of public record.

Dated: March 31, 2000.
Jackie Roberts,
Acting Deputy Director, Office of Job Corps.

[FR Doc. 00-8445 Filed 4-5-00; 8:45 am]

BILLING CODE 4510-30-M